DEPARTMENT OF HOUSING AND URBAN DEVELOPMENT

[Docket No. FR-5828-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040, Washington, DC 20405, (This is not a toll free number).

Dated: November 19, 2015.
Brian P. Fitzmaurice,
Director, Division of Community Assistance, Office of Special Needs Assistance Programs.

TITLE V, FEDERAL SURPLUS PROPERTY PROGRAM FEDERAL REGISTER REPORT FOR 11/27/2015

Suitable/Unavailable Properties

Building

Alabama

SGT Jack Richburg USARCr

107 Kinston Highway

Opp AL 36467

Landholding Agency: GSA

Property Number: 54201520016

Status: Excess

GSA Number: 4-D-AL-0816AA

Directions: GSA—Disposal Agency; US Army Reserve—Landholding Agency

Comments: 4,316 sq. ft.; administrative bldg..; office; built: 1967; sits on 4.53 acres; asbestos; remediation required; contact GSA for more information.

Alaska

FAA Housing

111 Henrichs Loop Road

Cordova AK 99754

Landholding Agency: GSA

Property Number: 54201440002

Status: Excess

GSA Number: 9-U-AK-0854

Directions: Disposal Agency: GSA; Land Holding Agency: Transportation

Comments: 25+ yrs. old; 2,688 sq. ft.; 3 months vacant; residential good condition; may be difficult to move; contact GSA for more information.

Colorado

6 Bldgs. Grand Junction Complex

500 South 10th Street

Grand Junction CO 81501

Landholding Agency: GSA

Property Number: 54201510002

Status: Excess

GSA Number: 7-I-CO-0698-AA

Directions: Disposal Agency: GSA; Landholding Agency: Bureau of Reclamation

Comments: 50+ yrs. old; Brick/Metal structure; 11,244 sq. ft., total 6 bldgs.; sits on 1.2 acres; office/storage/warehouse; repairs needed totaling $10,000; contact GSA for more info.

Illinois

Peoria Radio Repeater Site

Between Spring Creek and Caterpillar Lane

Peoria IL

Landholding Agency: GSA

Property Number: 54201420008

Status: Excess

GSA Number: I-D-IL-806

Directions: Landholding Agency; COE; Disposal agency GSA

Comments: 8×12 equipment storage shed; fair conditions contact GSA for more information.

Missouri

Former NMCB15 Richards-Gedaur

RPSUID 212

600 Seabee Drive

Belton MO 64068

Landholding Agency: GSA

Property Number: 54201510004

Status: Surplus

GSA Number: 7-D-MO-0705

Directions: Disposal Agency: GSA; Landholding Agency: Navy

Comments: 10 bldgs. Ranging from 960 to 4,980 sq. ft.; 12+ months vacant; some recent use includes: admin./classroom/warehouse; 14.67 acres; asbestos/lead/mold may be present; contact GSA for more information.

Nebraska

Grand Island U.S. Post Office and Courthouse

203 West 2nd Street

Grand Island NE 68801

Landholding Agency: GSA

Property Number: 54201520018

Status: Surplus

GSA Number: 7 G-NE-0519-AA

Directions: (RPUID)NE0018ZZ

Comments: 105+ yrs. old; 5,508 sq. ft.; office; good condition; asbestos; sits on 0.53 acres; listed on Nat. Reg. of Historic Place; need to contact property manager for aces.; contact GSA for more info.

Nevada

2 Buildings

Military Circle

Tonopah NV

Landholding Agency: GSA

Property Number: 54201240012

Status: Excess

GSA Number: 9-I-NV-514-AK

Directions: Bldg. 102: 2,508 sf.; bldg. 103: 2,880 sf.

Comments: Total sf. for both bldgs. 5,388; Admin.; vacant since 1998; sits on 0.747 acres; fair conditions; lead/asbestos present.

New York

Portion of GSA Binghamton

“Hillcrest” Depot- Tract 1

1151 Hoyt Ave.

Fenton NY 13901

Landholding Agency: GSA

Property Number: 54201320017

Status: Surplus

GSA Number: 1-G-NY0760-AC

Directions: Previously reported on March 24, 2006 under 54200610016; this property includes 40 acres of land w/6 structures; property is being parcelized

Comments: warehouses range from approx. 16,347 sf.-172,830 sf.; admin. bldg. approx. 5,700 sf; guard house & butler bldg. sf. is unknown; 10 vacant; fair conditions; bldgs. locked; entry by appt. w/GSA.

South Dakota

Lemmon Vehicle Storage Building

207 10th Street W.

Lemmon SD 57638

Landholding Agency: GSA

Property Number: 54201510009

Status: Surplus

GSA Number: 7-D-SD-0633-AA

Directions: Disposal Agency: GSA; Landholding Agency: COE

Comments: 2,000 sq. ft.; vehicle storage barn; sits on 0.77 acres; contact GSA for more information.

Washington

Old Oroville Border Patrol Station

1105 Main St.

Oroville WA 98844

Landholding Agency: GSA

Property Number: 54201420010

Status: Excess

GSA Number: 9-Z-WA-1272-AB

Directions: Landholding Agency: Dept. of Homeland Security; Disposal Agency: GSA

Comments: 5,500 sq. ft.; office; 18+ months vacant; good to moderate conditions; contact GSA for more info.

West Virginia

Naval Information Operations Center

133 Hedrick Drive

Sugar Grove WV 26815

Landholding Agency: GSA

Property Number: 54201430015

Status: Excess

GSA Number: 4-N-WV-0560

Directions: Land holding agency—Navy; Disposal Agency GSA

Comments: 118 Buildings; 445,134 sq. ft.; Navy base; until 09/15 military checkpoint; wetlands; contact GSA for more info.

Wisconsin

St. Croix National Scenic

Riverway Residential Structures

401 N. Hamilton St.

St. Croix Falls WI 54204

Landholding Agency: GSA

Property Number: 54201430001

Status: Excess

GSA Number: 1-I-WI-541B

Directions: Landholding Agency: Interior; Disposal Agency: GSA

Comments: house #1: 1,048 sq. ft.; House #2: 2,376 sq. ft.; House #3: 2,936 sq. ft.; good to fair conditions; LBP; contact GSA for more information.

Wyoming

2 Buildings

Cheyenne Naval Reserve Center

4700 Ocean Loop Drive

Cheyenne WY 82009

Landholding Agency: GSA

Property Number: 54201520009

Status: Surplus

GSA Number: 7-G-WY-0542-AC

Directions: Previously reported under HUD property number 54200510015. The property was originally conveyed from the GSA to the Wyoming Coalition of Homeless as a PBC for homeless use. Grantee unable to continue to use the property for homeless purposes. The title reverted to the Government.

Comments: 36+yrs. old, building (11,858 sq. ft.); shed (613 sq. ft.); 12+ mos. vacant; contact GSA for more information.

Land

Colorado

Grand Valley Project

39.25326873-108.84370271

Unincorporated CO 81524

Landholding Agency: GSA

Property Number: 54201520001

Status: Excess

GSA Number: 7-I-CO-0699-AA

Directions: Disposal Agency: GSA; Land Holding Agency: Interior

Comments: 30.12 acres; agricultural; silage pits; contact Interior for more information.

Illinois

FAA Outer Marker

5549 Elizabeth Place

Rolling Meadows IL

Landholding Agency: GSA

Property Number: 54201430004

Status: Excess

GSA Number: I-U-IL-807

Directions: Landholding Agency; FAA; Disposal Agency; GSA

Comments: 9,640 sq. ft.; 12+ months vacant; outer marker to assist planes landing at O'Hare Airport; contact GSA for more information.

New York

QTP Radio Comm. Link

Repeater Facility

N. of Tennanah Rd.

Fremont NY 12736

Landholding Agency: GSA

Property Number: 54201510006

Status: Excess

GSA Number: 1-U-NY-0988-AA

Directions: Disposal Agency: GSA; Landholding Agency: FAA

Comments: approx. 4.99 acres; deeded access road to property; adjacent property has metal gate; ongoing discussions w/owner to remove gate; contact GSA for more information.

Former ELM Directional Finder

N. of Halderman Hollow Rd.

Big Flats NY 14903

Landholding Agency: GSA

Property Number: 54201520004

Status: Excess

GSA Number: 1-U-NY-0990-AA

Directions: Disposal Agency: GSA; Land Holding Agency: Federal Aviation Admin.

Comments: reversed Suitability Determination: Approx. 0.57 acres; deeded right of way for access to site; contact GSA for more information.

Oklahoma

FAA Oklahoma City Outer Marker

NW 3rd. Street

Oklahoma City OK 73127

Landholding Agency: GSA

Property Number: 54201530003

Status: Surplus

GSA Number: 7-U-OK-0582-AA

Directions: Disposal Agency: GSA; Land Holding Agency: DOT/Federal Aviation Admin.

Comments: 0.27 fee acres and a 0.08 acre assess easement.

Pennsylvania

FAA 0.65 Acres Vacant Land

Westminster Rd.

Wilkes-Barre PA 18702

Landholding Agency: GSA

Property Number: 54201520013

Status: Surplus

GSA Number: 4-U-PA-0828AA

Directions: GSA—Disposal Agency; FAA—Landholding Agency

Comments: cleared area w/gravel; contact GSA for more information.

Tennessee

Parcel 279.01

Northwest corner of Administration Rd. & Laboratory Rd

Oak Ridge TN 37830

Landholding Agency: GSA

Property Number: 54201520014

Status: Surplus

GSA Number: 4-B-TN-0664-AD

Directions: Disposal Agency; Energy—Landholding Agency

Comments: corner lot w/out an est. driveway/curb; transferee will need to contact the City of Oak Ridge for ingress/egress requirements (865-425-3581; www.oakridgetn.gov); contact GSA for more information.

Parcel ED-3 E

and W (168.30 +/− acres)

South Side of Oak Ridge Turnpike

Oak Ridge TN 37763

Landholding Agency: GSA

Property Number: 54201520015

Status: Surplus

GSA Number: 4-B-TN-0664-AG

Directions: GSA—Disposal Agency; Energy—Landholding Agency; (State Rte. 58)

Comments: accessibility/usage subjected to Federal, state, & local laws including but not limited to historic preservation, floodplains, wetlands, endangered species, Nat'l EPA; contact GSA for more information.

Parcels ED-13, 3A, 16

Portions of D-8 & ED-4

N. Side of Oak Ridge Turnpike (State Rte. 58)

Oak Ridge TN 37763

Landholding Agency: GSA

Property Number: 54201530001

Status: Surplus

GSA Number: 4-B-TN-0664-AF

Directions: Energy: Landholding Agency; GSA: Disposal Agency

Comments: 168 +/− acres; legal constraints: Ingress/egress utility easement; groundwater constraints; contact GSA for more information.

West Virginia

Former AL1-RCLR Tower Site

2146 Orleans Rd.,

Great Cacapon WV 25422

Landholding Agency: GSA

Property Number: 54201530002

Status: Surplus

GSA Number: 4-U-WV-0561AA

Directions: Disposal Agency: GSA; Land Holding Agency: Federal Aviation Administration

Comments: 9.69 acres; located on ridgetop.

[FR Doc. 2015-29951 Filed 11-25-15; 8:45 am]

BILLING CODE 4210-67-P